DEPARTMENT OF COMMERCE

National Oceanic and Atmospheric Administration

RIN 0648-XD194

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council) will hold public meetings.

DATES: The meetings will be held Tuesday, April 8, 2014 through Thursday, April 10, 2014. See SUPPLEMENTARY INFORMATION for specific dates and times.

ADDRESSES: The meetings will be held at the Montauk Yacht Club, 32 Star Island Road, Montauk, NY 11954; telephone: (631) 668-3100.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255.

SUPPLEMENTARY INFORMATION:

Tuesday, April 8, 2014

1 p.m. until 2 p.m.—The River Herring and Shad Committee will meet.

2 p.m. until 5 p.m.—The Executive Committee will meet.

Wednesday, April 9, 2014

9 a.m.—The Council will convene.

9 a.m. until 10 a.m.—A Stock Assessment Workshop/Stock Assessment Review Committee (SAW/SARC) presentation will be held.

10 a.m. until 12 noon—Tilefish Management Measures for 2015-17 will be finalized.

1 p.m. until 2 p.m.—There will be an update on Scup Gear-Restricted Area (GRA) Framework 8.

2 p.m. until 3:30 p.m.—There will be an update on the Deep Sea Coral Amendment.

3:30 p.m. until 4:30 p.m.—There will be a Marine Recreational Information Program (MRIP) presentation.

4:30 p.m. until 5 p.m.—There will be a presentation on establishing a baseline of spatial fishing revenue along the Atlantic coast.

5 p.m. until 6 p.m.—A listening session will be held.

Thursday, April 10, 2014

8:30 a.m.—The Council will convene.

8:30 a.m. until 9:30 a.m.—The Standardized Bycatch Reporting Methodology Amendment (SBRM) will be discussed.

9:30 a.m. until 10 a.m.—An Industry-Funded Monitoring Omnibus Amendment briefing will be held.

10 a.m. until 1 p.m.—The Council will hold its regular Business Session to receive Organizational Reports, the New England and South Atlantic Liaison Reports, the Executive Director's Report, the Science Report, Committee Reports, and conduct any continuing and/or new business.

Agenda items by day for the Council's Committees and the Council itself are:

On Tuesday, April 8—The River Herring and Shad Committee will review and approve terms of reference and scope of work for the Committee. The Executive Committee will develop a Council position on Magnuson-Stevens reauthorization issues.

On Wednesday, April 9—The Council will hear a SAW/SARC 58 Summary to include butterfish, tilefish, and northern shrimp. The Council will review and adopt the Scientific and Statistical Committee's and the Tilefish Monitoring Committee's recommendations for 2015-17 harvest levels and management measures. The Council will review and discuss comments received by Advisors on modifications to the Scup GRA Framework 8. The Council will review a progress update on the initial analysis of current alternatives on the Deep Sea Coral Amendment. The Council will receive an update on the overall implementation of MRIP, review results of the for-hire reporting pilot projects, and discuss possible changes to the for-hire reporting. The Council will receive a presentation entitled Who Fishes There—Establishing a baseline of spatial fishing revenue along the Atlantic coast. This presentation will show the Council a GIS application that will identify areas important to specific fishing communities, species, gears, and sessions that will establish a baseline of commercial fishing effort for the Bureau of Ocean Energy Management. The discussion during the Listening Session will be on the United Kingdom experience related to managing navigational hazards for fishermen during wind farm construction and data collection by fishing vessels concerning commercial species behavior in and around wind farms.

On Thursday, April 10—The Council will review and approve the SBRM Amendment. The Council will receive a briefing on the cost associated with the current observer program for the Industry-Funded Monitoring Omnibus Amendment. The Council will hold its regular Business Session to receive Organizational Reports, the New England and South Atlantic Council Liaison Reports, the Executive Director's Report, Science Report, Committee Reports, and conduct any continuing and/or new business, which will include the RSA permitting cycle, Surfclam/Ocean Quahog industry concerns regarding the NEFMC Habitat Amendment and Council planning for the Summer Flounder Amendment.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

The meetings are physically accessible to people with disabilities. Requests for sign language interpretation or other auxiliary aid should be directed to M. Jan Saunders (302) 526-5251 at least 5 days prior to the meeting date.

Dated: March 18, 2014.
Tracey L. Thompson,
Acting Deputy Director, Office of Sustainable Fisheries, National Marine Fisheries Service.

[FR Doc. 2014-06169 Filed 3-20-14; 8:45 am]

BILLING CODE 3510-22-P